DEPARTMENT OF AGRICULTURE

Food Safety and Inspection Service

[Docket No. FSIS-2025-0179]

Exploring Practical Strategies To Reduce Salmonella in Poultry Products

AGENCY: Food Safety and Inspection Service (FSIS), U.S. Department of Agriculture (USDA).

ACTION: Notice of public meeting.

SUMMARY: On December 2, 2025, FSIS announced that it will hold a public meeting on January 14, 2026, to discuss practical strategies for reducing Salmonella illnesses attributed to poultry products. FSIS is now changing the meeting time to accommodate logistical needs. This meeting supports USDA's broader food safety initiative and follows the withdrawal of the previous Salmonella framework proposed rule in response to issues raised in the public comments. FSIS is seeking input on how to address Salmonella through better use of data, alternative performance standard parameters, and policy options that reflect both public health goals and industry realities, especially for small and very small producers.

DATES: The public meeting will be held on Wednesday, January 14, 2026, from 12:00 p.m. to 4:30 p.m. EST. All attendees, whether attending in person or virtually, must register for the meeting by January 7, 2026. Attendees planning to share public comments during the meeting must register by January 5, 2026.

Submit comments on or before February 2, 2026.

ADDRESSES: The public meeting will be held in person at the U.S. Department of Agriculture, South Building, Jefferson Auditorium, 1400 Independence Avenue SW, Washington, DC 20250. Attendees must enter through Wing 3 on Independence Avenue and pass through USDA security screening. The South Building is a Federal facility and attendees should allow adequate time to pass through the security screening system. A valid photo ID is required to enter the building. FSIS will also provide a virtual option for individuals who wish to participate and provide comments to the meeting remotely. Registration instructions and meeting materials will be available on the FSIS website at: https://www.fsis.usda.gov/registration-2026-salmonella-meeting. The agenda and transcripts will be available on the FSIS website at: https://www.fsis.usda.gov/news-events/events-meetings. Sign language interpreter services will be provided.

Comments on this notice may be made by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700.

Instructions: All items submitted by mail or electronic mail must include the Agency name and docket number FSIS-2025-0179. Comments received in response to this docket will be made available for public inspection and posted without change, including any personal information, to https://www.regulations.gov.

Docket: For access to background documents or comments received, email docketclerk@usda.gov or call 202-286-2255 to schedule a time to visit the FSIS Docket Room at 1400 Independence Avenue SW, Washington, DC 20250-3700.

FOR FURTHER INFORMATION CONTACT: For questions related to the public meeting, please contact the FSIS Office of Public Affairs and Consumer Education at 202-853-6166 or FRN@usda.gov.

SUPPLEMENTARY INFORMATION:

Background

FSIS is the public health agency in USDA whose mission is to ensure that meat, poultry, and egg products are safe, wholesome, and properly labeled. Salmonella remains a leading cause of foodborne illness in the United States, and poultry products continue to be a leading source of exposure among products under FSIS jurisdiction.

Between 2017 to 2021, the number of chicken samples in which FSIS detected Salmonella decreased by more than 50%. However, from 2021 to 2024, no further significant reductions in Salmonella contamination have been observed for any type of poultry products sampled by FSIS. Given this plateau in contamination levels, FSIS is exploring how to further drive reductions in Salmonella contamination. Modern laboratory technologies, including methods to serotype and rapidly enumerate Salmonella, provide FSIS with opportunities to refine its current performance standard approach.

According to the most recent report from the Interagency Food Safety Analytics Collaboration (2022), approximately 25% of foodborne Salmonella illnesses are attributable to poultry—about 20% from chicken and just over 5% from turkey.¹ While poultry remains a significant source of Salmonella illnesses, a separate analysis of reported illnesses found that illnesses caused by poultry-associated Salmonella serotypes declined between 1996 and 2019, whereas those linked to non-poultry-associated serotypes increased.² This reduction occurred despite a roughly 15% increase in per capita chicken consumption over the same time period. A second study, which accounts for these changes in consumption, found a 19% reduction in the probability of illness per serving of chicken during a slightly different time period (1998 through 2017).³

¹ https://www.cdc.gov/ifsac/php/data-research/annual-reports/index.html.

² https://onlinelibrary.wiley.com/doi/full/10.1111/risa.14181.

³ Williams, M.S., and E.D. Ebel. 2022. Temporal changes in the proportion of Salmonella outbreaks associated with 12 food commodity groups in the United States. Epidemiology and Infection. 150:e126.

In August 2024, FSIS published a proposed rule and determination titled “Salmonella Framework for Raw Poultry Products” in the Federal Register (89 FR 64678). The proposal outlined a strategy to reduce Salmonella-related illnesses by establishing final product standards based on specific Salmonella levels and serotypes, revising microbial monitoring requirements, and incorporating Statistical Process Control (SPC) methods.

FSIS received over 7,000 public comments on the proposed framework. Stakeholders raised concerns about FSIS' legal authority, the scientific basis for the proposed standards, and the potential economic impacts—particularly on small poultry growers and processors. After reviewing the comments, FSIS withdrew the proposed rule and determination on April 25, 2025 (90 FR 17344), to further evaluate its approach. In the withdrawal notice, the Agency reaffirmed its commitment to reduce Salmonella illnesses but acknowledged that several key issues raised in the comments warranted additional consideration.

Shortly after the withdrawal notice, on July 15, 2025, Secretary of Agriculture Brooke Rollins announced a comprehensive plan to strengthen USDA's efforts to combat foodborne illness.⁴ The plan emphasizes science-based strategies, practical implementation, and strong partnerships across the food system. FSIS' continued assessment of its Salmonella strategy aligns with the broader goals outlined in this plan.

⁴ https://content.govdelivery.com/accounts/USDAOC/bulletins/3e98d3a.

Public Meeting

As part of its ongoing reassessment of its Salmonella strategy, FSIS will hold a public meeting on January 14, 2026, from 12 p.m. to 4:30 p.m. EST. This meeting was originally announced in the Federal Register on December 2, 2025 (90 FR 55297). FSIS has revised the meeting start time from 11 a.m. to 12 p.m. and the end time from 4:00 p.m. to 4:30 p.m. to accommodate logistical needs.

The meeting is intended to gather input on innovative, practical, and science-based strategies to further reduce Salmonella illnesses associated with poultry products. Leading up to the meeting, FSIS held a series of interactive roundtable discussions with various stakeholders, including representatives from large and small poultry establishments, industry associations, commercial purchasers of raw poultry, academia, and consumer advocacy groups. These discussions focused on broad policy and technical issues related to Salmonella control. The public meeting will build upon those conversations and provide an opportunity for additional stakeholders to share their perspectives.

This meeting will focus on gathering feedback from the public on these four key topic areas:

1. FSIS Data Uses and Opportunities

• How FSIS data inform business decisions

• Suggestions for improving FSIS data accessibility and usability

2. Factors that inform Salmonella Controls

• Barriers to implementing additional controls

• Incentives and support for small producers

3. Alternative Parameters for Performance Standards

• Use of serotype, enumeration, genomic factors (e.g., virulence or antimicrobial resistance)

• Supporting data, public health impact, available technology, and industry feasibility

• Product type, sampling frequency, or lotting

4. Policy Options Beyond Current Performance Standards

• Alternative or innovative strategies to reduce Salmonella illnesses

An agenda will be published online before the public meeting. FSIS will finalize the agenda on or before the meeting date and post it on the FSIS website at: https://www.fsis.usda.gov/news-events/events-meetings.

Registration

There is no fee to register for the public meeting, but registration is required for all participants attending either in person or virtually. All attendees must register online by visiting https://www.fsis.usda.gov/registration-2026-salmonella-meeting, after which they will receive an email acknowledging their registration. Stakeholders who wish to speak at the meeting must notify FSIS during registration and must register by January 5, 2026. Attendees that do not plan to speak at the public meeting must register by January 7, 2026.

Public Comments and Participation in Meetings

Stakeholders may attend the meeting either in person or virtually. Those who indicate during registration that they wish to speak—whether attending in person or virtually—will have the opportunity to provide oral comments. Each speaker will be limited to three minutes. Attendees who wish to speak must indicate their interest and the topic(s) they wish to address when registering. Due to anticipated high interest and limited time, FSIS will do its best to accommodate all who pre-register to speak. Speaking slots will be assigned in the order of registration and generally organized by topic area(s), and FSIS will notify speakers in advance of their approximate speaking time.

Stakeholders who do not indicate their intent to speak during registration may not be able to provide oral comments during the meeting due to time constraints. However, there will be an open comment period at the end of the meeting for general questions or remarks. Written comments may also be submitted as described in the ADDRESSES section above.

Transcripts

As soon as the meeting transcripts are available, they will be accessible on the FSIS website at: https://www.fsis.usda.gov/news-events/events-meetings.

Additional Public Notification

Public awareness of all segments of rulemaking and policy development is important. Consequently, FSIS will announce this Federal Register publication on-line through the FSIS web page located at: https://www.fsis.usda.gov/federal-register. FSIS will also announce and provide a link through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, the USDA, its Agencies, offices, employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Washington, DC 20250-9410; (2) fax: (202) 690-7442; or (3) email: program.intake@usda.gov.

USDA is an equal opportunity provider, employer, and lender.

Authority: 21 U.S.C. 601 et seq., 21 U.S.C. 451 et seq. and 21 U.S.C. 1031 et seq.

Justin Ransom,
Administrator.

[FR Doc. 2025-22718 Filed 12-12-25; 8:45 am]

BILLING CODE 3410-DM-P